NUCLEAR REGULATORY COMMISSION

[Docket No. 72-25; NRC-2009-0076]

U.S. Department of Energy; Idaho Spent Fuel Facility Notice of Order Approving Direct Transfer of Materials License

AGENCY: Nuclear Regulatory Commission.

ACTION: Issuance of Order Approving Direct Transfer of Materials License No. SNM-2512.

FOR FURTHER INFORMATION CONTACT: Shana Helton, Senior Project Manager, Licensing Branch, Division of Spent Fuel Storage and Transportation, Office of Nuclear Material Safety and Safeguards (NMSS), U.S. Nuclear Regulatory Commission (NRC), Rockville, MD 20852. Telephone: (301) 492-3284; fax number: (301) 492-3348; e-mail: shana.helton@nrc.gov.

SUPPLEMENTARY INFORMATION:

I

Foster Wheeler Environmental Corporation (FWENC) is the holder of Special Nuclear Materials License No. 2512 (SNM-2512), issued by the Nuclear Regulatory Commission (NRC or Commission) pursuant to 10 CFR part 72. SNM-2512 authorizes FWENC to construct and operate the Idaho Spent Fuel (ISF) Facility in accordance with the terms and conditions specified therein. The yet-to-be constructed ISF Facility is an independent spent fuel storage installation (ISFSI) which, if constructed, will be located adjacent to the U.S. Department of Energy's (DOE's) Idaho Nuclear Technology and Engineering Center site on the Idaho National Laboratory grounds in Idaho.

II

By application dated May 30, 2008, as supplemented by letter dated June 8, 2009 (Agencywide Documents Access and Management System [ADAMS] Accession Nos. ML081630246 and ML091660593, respectively), DOE submitted a request, to NRC, for approval of a proposed direct transfer of SNM-2512, under section 184 of the Atomic Energy Act of 1954, as amended (AEA), and 10 CFR 72.50.

SNM-2512 was issued to FWENC to construct and operate the ISF Facility ISFSI. As of this date, no facility has been constructed, but FWENC continues to hold SNM-2512. The proposed license transfer would result in DOE holding SNM-2512. The application also requested a conforming license amendment to reflect the proposed transfer of SNM License No. 2512 to DOE. No physical changes to the ISF Facility ISFSI design or operational changes were proposed in the application.

Approval of the application was requested pursuant to section 184 of the AEA, and 10 CFR 72.50. Notice of consideration of approval of the application and an opportunity for a hearing was published in the Federal Register on, February 25, 2009 (74 FR 8587). No hearing requests or written comments were received. The June 8, 2009, supplement, which was not identified in the Federal Register notice, provided a revision to Chapter 9 of the Safety Analysis Report. The revision delineates a full construction/operating organization, pending a decision by DOE to proceed with the deployment of the ISF Facility ISFSI. This revision to the organizational description has been determined to be administrative in nature and not to present any safety issue.

The Commission's approval of this direct transfer of SNM-2512, and any related, conforming license amendments to SNM-2512, are categorically excluded from further environmental review, pursuant to 10 CFR 51.22(c)(21).

Under 10 CFR 72.50, no license nor any part included in a license issued under 10 CFR part 72 for an ISFSI shall be transferred, assigned, or in any manner disposed of, either voluntarily or involuntarily, directly or indirectly, through transfer of control of the license to any person, unless the Commission gives its consent in writing. Upon review of the information submitted in the application and other information before the Commission, the NRC staff has determined that the direct transfer of control of SNM-2512, as described above, is consistent with applicable provisions of the law, and the regulations and orders issued by the Commission. These findings are supported by a Safety Evaluation dated July 17, 2009 (ADAMS No. ML091940481).

III

Accordingly, pursuant to sections 161b, 161i, and 184 of the AEA, 42 USC 2201(b), 2201(i), and 2234, and 10 CFR 72.50, the Commission gives notice that it has issued an order (Order) approving DOE's application dated May 30, 2008, as supplemented by letter dated June 8, 2009, for the direct transfer of SNM-2512 from FWENC to DOE, and for conforming license amendments.

The Order is effective upon issuance.

For further details, see the application dated May 30, 2008, as supplemented by letter dated June 8, 2009; the safety evaluation report; and the Order (ADAMS Nos. ML081630246, ML091660593, ML091940481, and ML091940453, respectively). These documents are available for public inspection at the Commission's Public Document Room (PDR), located at One White Flint North, Public File Area O1 F21, 11555 Rockville Pike (first floor), Rockville, Maryland, and accessible electronically from the ADAMS Public Electronic Reading Room on the Internet at the NRC Web site, http://www.nrc.gov/reading-rm/adams.html. Persons who do not have access to ADAMS, or who encounter problems in accessing the documents located in ADAMS, should contact the NRC PDR Reference staff, by telephone, at 1-800-397-4209, 301-415-4737, or, by e-mail, to pdr@nrc.gov.

Dated at Rockville, Maryland, this 17th day of July 2009.
For the Nuclear Regulatory Commission.
Michael F. Weber,
Director, Office of Nuclear Material Safety and Safeguards.

[FR Doc. E9-17901 Filed 7-27-09; 8:45 am]

BILLING CODE 7590-01-P